BUREAU OF CONSUMER FINANCIAL PROTECTION

[Docket No. CFPB-2018-0033]

Agency Information Collection Activities: Comment Request

AGENCY: Bureau of Consumer Financial Protection.

ACTION: Notice and request for comment.

SUMMARY: In accordance with the Paperwork Reduction Act of 1995 (PRA), the Bureau of Consumer Financial Protection (Bureau) is requesting to renew the Office of Management and Budget (OMB) approval for an existing information collection titled, “Regulation F: Fair Debt Collection Practices Act, State Application for Exemption (12 CFR 1006.2).”

DATES: Written comments are encouraged and must be received on or before November 30, 2018 to be assured of consideration.

ADDRESSES: You may submit comments, identified by the title of the information collection, OMB Control Number (see below), and docket number (see above), by any of the following methods:

• Electronic: Go to http://www.regulations.gov. Follow the instructions for submitting comments.

• Email: FederalRegisterComments@cfpb.gov. Include Docket No. CFPB-2018-0033 in the subject line of the message.

• Mail: Comment intake, Consumer Financial Protection Bureau (Attention: PRA Office), 1700 G Street NW, Washington, DC 20552.

• Hand Delivery/Courier: Comment intake, Bureau of Consumer Financial Protection (Attention: PRA Office), 1700 G Street NW, Washington, DC 20552.

Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to the Bureau of Consumer Financial Protection, (Attention: PRA Office), 1700 G Street NW, Washington, DC 20552, (202) 435-9575, or email: CFPB_PRA@cfpb.gov. If you require this document in an alternative electronic format, please contact CFPB_Accessibility@cfpb.gov. Please do not submit comments to these email boxes.

SUPPLEMENTARY INFORMATION:

Title of Collection: Regulation F: Fair Debt Collection Practices Act, State Application for Exemption (12 CFR 1006.2).

OMB Control Number: 3170-0056.

Type of Review: Extension without change of a currently approved collection.

Affected Public: State governments.

Estimated Number of Respondents: 1.

Estimated Total Annual Burden Hours: 2.

Abstract: Regulation F contains procedures and criteria whereby states may apply to the Bureau for an exemption of a class of debt collection practices within the applying state from the provisions of the Fair Debt Collection Practices Act as provided in section 817 of the Act, 15 U.S.C. 1692. The information collection request seeks OMB approval for the state application requirements as contained in 12 CFR 1006.2.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: September 26, 2018.
Darrin A. King,
Paperwork Reduction Act Officer, Bureau of Consumer Financial Protection.

[FR Doc. 2018-21300 Filed 9-28-18; 8:45 am]

BILLING CODE 4810-AM-P